DEPARTMENT OF EDUCATION

Applications for New Awards; First in the World Program—Validation Grants

AGENCY: Office of Postsecondary Education, Department of Education.

ACTION: Notice.

Overview Information

Fund for the Improvement of Postsecondary Education (FIPSE)—First in the World (FITW) Program—Validation Grants

Notice inviting applications for new awards for fiscal year (FY) 2015.

Catalog of Federal Domestic Assistance (CFDA) Number: 84.116X.

Dates:

Applications Available: May 11, 2015.

Deadline for Transmittal of Applications: June 30, 2015.

Deadline for Intergovernmental Review: August 31, 2015.

Full Text of Announcement

I. Funding Opportunity Description

Purpose of Program: The FITW program is designed to support the development, replication, and dissemination of innovative solutions and evidence for what works in addressing persistent and widespread challenges in postsecondary education for students who are at risk for not persisting in and completing postsecondary programs, including, but not limited to, adult learners, working students, part-time students, students from low-income backgrounds, students of color, students with disabilities, and first-generation students. The focus of the FITW program is to build evidence for what works in postsecondary education by testing the effectiveness of these strategies in improving student persistence and completion outcomes.

For FY 2015, the Department will award two types of grants under FITW: “Development” grants and “Validation” grants. These grants differ in terms of the level of evidence of effectiveness required for consideration of funding, the level of scale the funded project should reach, and, consequently, the amount of funding available to support the project.

This notice invites applications for Validation grants only. Validation grants provide funding to support the expansion and replication of projects supported by moderate evidence of effectiveness (as defined in this notice) to a scaled multi-site sample (as defined in this notice), which would include multiple institutions of higher education, including multiple institutions within a State system.

All Validation grantees must evaluate the effectiveness of the project at each partner entity. The evaluation design will be assessed on the extent to which it could meet What Works Clearinghouse Evidence Standards (as defined in this notice) without reservations.

The Department has published a separate notice inviting applications for Development grants elsewhere in this issue of the Federal Register.

Priorities: This notice contains four absolute priorities. The first three absolute priorities are from the notice of final priorities, requirements, definitions, and selection criterion for this program (NFP), published elsewhere in this issue of the Federal Register. The fourth absolute priority is from the Department's notice of final supplemental priorities and definitions for discretionary grant programs (Supplemental Priorities), published in the Federal Register on December 10, 2014 (79 FR 73425).

Absolute Priorities: For FY 2015 and any subsequent year in which we make awards from the list of unfunded applications from this competition, these priorities are absolute priorities. Under 34 CFR 75.105(c)(3), we consider only applications that address one of the four absolute priorities. Applicants must specify on the Abstract and Information page which absolute priority is addressed in the application.

These priorities are:

Absolute Priority 1: Improving Success in Developmental Education

The Secretary gives priority to:

Projects designed to improve student success in developmental education or accelerate student progress into credit-bearing postsecondary courses.

Note: Many students arrive at college unprepared for college-level coursework. They often lack the critical thinking, analytical, and communication skills needed for success in college and preparation for the workforce.

This priority invites applications for evidence-based interventions and solutions that engage students more quickly in credit-bearing courses, such as streamlined approaches through GED equivalency or high school credential equivalency for adult learners to allow them to begin taking formal postsecondary coursework.

Absolute Priority 2: Improving Teaching and Learning

The Secretary gives priority to projects designed to improve teaching and learning.

Note: Methods of teaching have stayed largely static, with the traditional lecture as the core instructional design. New approaches to teaching and learning that incorporate curriculum and course re-design, such as by using tools and strategies that go beyond the traditional lecture to support active learning or customize learning, must be tested and expanded to more postsecondary institutions to improve accessibility and quality and reduce cost.

Absolute Priority 3: Improving Student Support Services

The Secretary gives priority to projects designed to improve the supports or services provided to students prior to or during the students' enrollment in postsecondary education.

Note: Almost all institutions of higher education offer a diverse array of student support services to assist with financial aid, academic barriers and other issues related to persistence and completion. The range of services and support is extensive and includes interventions both inside and outside the classroom and campus. Many of these services are also provided by outside organizations, including non-profits.

However, few student support services strategies are widely implemented on the basis of evidence of effectiveness. There is a great need to expand validated cost effective approaches, so that a greater number of students can be served.

Absolute Priority 4: Influencing the Development of Non-Cognitive Factors

The Secretary gives priority to projects that are designed to improve students' mastery of non-cognitive skills and behaviors (such as academic behaviors, academic mindset, perseverance, self-regulation, social and emotional skills, and approaches toward learning strategies) and enhance student motivation and engagement in learning.

Note: The development of non-cognitive factors is critical during the postsecondary years as students face new academic challenges, social comparisons, and stereotypes regarding their potential for success. How students negotiate these changes has major implications for their academic futures.

The selection criteria for the FY 2015 Validation competition are designed to ensure that applications selected for funding have the best potential to generate substantial improvements and research in student outcomes, and include well-articulated plans for the implementation, dissemination, and evaluation of the proposed projects. Applicants should review the selection criteria and submission instructions carefully to ensure their applications address this year's criteria.

Applicants should note that we screen for eligibility at multiple points before, during, and after the review process. Applicants that are determined to be ineligible at any point in the review process will not receive a grant award regardless of peer reviewer scores or comments. If we determine that a Validation grant application is not supported by moderate evidence of effectiveness, either because the study submitted does not meet the standard or is not closely relevant to the proposed project, the application will not be considered for funding.

Requirements: The following requirements are from the NFP and apply to all applications submitted under this competition:

(a) Innovations that Improve Outcomes for High-Need Students: Grantees must implement projects designed to improve one or more of the following outcomes of high-need students (as defined in this notice) in postsecondary education:

(i) Persistence.

(ii) Academic progress.

(iii) Time to degree.

(iv) Completion.

(b) Evidence and Sample Size Standards:

(i) An application for a Validation grant must be supported by moderate evidence of effectiveness (as defined in 34 CFR 77.1(c)).

(ii) An application for a Validation grant must be supported by the following level of sample size: Scaled multi-site sample, such as across a system of institutions, across institutions in a State, a region, or nationally, or across institutions in a labor market sector.

(iii) An applicant's project must propose to implement the core aspects of the process, product, strategy, or practice from the supporting study as closely as possible. Where modifications to a cited process, product, strategy, or practice will be made to account for student or institutional characteristics, resource limitations, or other special factors or to address deficiencies identified by the cited study, the applicant must provide a justification or basis for the modifications. Modifications may not be proposed to the core aspects of any cited process, product, strategy, or practice.

(c) Evaluation:

(i) The grantee must conduct an independent evaluation (as defined in this notice) of its project. The evaluation must estimate the impact of the FITW-supported practice (as implemented at the proposed level of scale) on a relevant outcome (as defined in 34 CFR 77.1(c)).

(ii) The grantee must make broadly available, digitally and free of charge, through formal (e.g., peer-reviewed journals) or informal (e.g., newsletters) mechanisms, the results of any evaluations it conducts of its funded activities. The grantee must also ensure that the data from its evaluation are made available to third-party researchers consistent with applicable privacy requirements.

(iii) The grantee and its independent evaluator must agree to cooperate on an ongoing basis with any technical assistance provided by the Department or its contractor, including any technical assistance provided to ensure that the evaluation design meets the required evaluation standards, and comply with the requirements of any evaluation of the program conducted by the Department. This includes providing to the Department, within 100 days of a grant award, an updated comprehensive evaluation plan in a format and using such tools as the Department may require. Grantees must update this evaluation plan at least annually to reflect any changes to the evaluation and provide the updated evaluation plan to the Department. All of these updates must be consistent with the scope and objectives of the approved application.

(d) Funding Categories: An applicant will be considered for an award only for the type of FITW grant (Development or Validation) for which it applies. Applicants may not apply for a FITW competition in which they currently have an active FITW grant. An applicant may submit only one FITW application in FY 2015.

(e) Management Plan: Within 100 days of a grant award, the grantee must provide an updated comprehensive management plan for the approved project in a format and using such tools as the Department may require. This management plan must include detailed information about implementation of the first year of the grant, including key milestones, staffing details, and other information that the Department may require. It must also include a complete list of performance metrics, including baseline measures and annual targets. The grantee must update this management plan at least annually to reflect implementation of subsequent years of the project and provide the updated management plan to the Department.

Definitions

The following definitions are from the NFP and from 34 CFR 77.1 and apply to the priorities, requirements, and selection criteria in this notice:

High-need student means a student at risk of educational failure or otherwise in need of special assistance and support such as adult learners, working students, part-time students, students from low-income backgrounds, students of color, first-generation students, students with disabilities, and students who are English learners. (Note: The Department does not limit the definition of high-need students to this list. This list is illustrative and may include other categories of high-need students).

Independent evaluation means an evaluation that is designed and carried out independent of and external to the grantee, but in coordination with any employees of the grantee who develop a process, product, strategy, or practice and are implementing it.

Large sample means an analytic sample of 350 or more students (or other single analysis units), or 50 or more groups (such as classrooms or schools) that contain 10 or more students (or other single analysis units).

Minority-serving institution means an institution that is eligible to receive assistance under sections 316 through 320 of part A of Title III, under part B of Title III, or under Title V of the Higher Education Act of 1965, as amended (HEA).

Moderate evidence of effectiveness means one of the following conditions is met:

(a) There is at least one study of the effectiveness of the process, product, strategy, or practice being proposed that meets the What Works Clearinghouse Evidence Standards without reservations, found a statistically significant favorable impact on a relevant outcome (as defined in this notice) (with no statistically significant and overriding unfavorable impacts on that outcome for relevant populations in the study or in other studies of the intervention reviewed by and reported on by the What Works Clearinghouse), and includes a sample that overlaps with the populations or settings proposed to receive the process, product, strategy, or practice.

(b) There is at least one study of the effectiveness of the process, product, strategy, or practice being proposed that meets the What Works Clearinghouse Evidence Standards with reservations, found a statistically significant favorable impact on a relevant outcome (as defined in this notice) (with no statistically significant and overriding unfavorable impacts on that outcome for relevant populations in the study or in other studies of the intervention reviewed by and reported on by the What Works Clearinghouse), includes a sample that overlaps with the populations or settings proposed to receive the process, product, strategy, or practice, and includes a large sample (as defined in this notice) and a multi-site sample (as defined in this notice). Note: multiple studies can cumulatively meet the large and multi-site sample requirements as long as each study meets the other requirements in this paragraph.

Multi-site sample means more than one site, where site can be defined as a local educational agency, locality, or State.

Nonprofit, as applied to an agency, organization, or institution, means that it is owned and operated by one or more corporations or associations whose net earnings do not benefit, and cannot lawfully benefit any private shareholder or entity.

Quasi-experimental design study means a study using a design that attempts to approximate an experimental design by identifying a comparison group that is similar to the treatment group in important respects. These studies, depending on design and implementation, can meet What Works Clearinghouse Evidence Standards with reservations (but not What Works Clearinghouse Evidence Standards without reservations).

Randomized controlled trial means a study that employs random assignment of, for example, students, teachers, classrooms, schools, or districts to receive the intervention being evaluated (the treatment group) or not to receive the intervention (the control group). The estimated effectiveness of the intervention is the difference between the average outcome for the treatment group and for the control group. These studies, depending on design and implementation, can meet What Works Clearinghouse Evidence Standards without reservations.

Relevant outcome means the student outcome(s) (or the ultimate outcome if not related to students) the proposed process, product, strategy, or practice is designed to improve, consistent with the specific goals of a program.

What Works Clearinghouse Evidence Standards means the standards set forth in the What Works Clearinghouse Procedures and Standards Handbook (Version 3.0, March 2014), which can be found at the following link: http://ies.ed.gov/ncee/wwc/DocumentSum.aspx?sid=19.

Program Authority: 20 U.S.C. 1138-1138d.

Applicable Regulations: (a) The Education Department General Administrative Regulations in 34 CFR parts 75, 77, 79, 82, 84, 86, 97, 98, and 99. (b) The Office of Management and Budget Guidelines to Agencies on Governmentwide Debarment and Suspension (Non-procurement) in 2 CFR part 180, as adopted and amended as regulations of the Department in 2 CFR part 3485. (c) The Uniform Administrative Requirements, Cost Principles, and Audit Requirements for Federal Awards in 2 CFR part 200, as adopted and amended in 2 CFR part 3474. (d) The NFP. (e) The Supplemental Priorities.

Note: The regulations in 34 CFR part 86 apply to institutions of higher education only.

II. Award Information

Type of Award: Discretionary grants.

Available Funds: $60,000,000 total for the FITW program, with up to $16,000,000 set aside for Minority-Serving Institutions (MSIs), in accordance with the Joint Explanatory Statement accompanying the Consolidated and Further Continuing Appropriations Act of 2015. In implementing this set aside, the Department may fund applications from MSIs out of rank order in this competition, in the competition for Development grants or in both. We may allocate up to $40 million for Validation grants but the actual amount will depend on the quality of the proposals in the Development and Validation grant competitions.

Contingent upon the availability of funds and the quality of applications, we may make additional awards in FY 2016 or later years from the list of unfunded applicants from this competition.

Estimated Range of Awards: $6,000,000 to $10,000,000.

Estimated Average Size of Awards: $7,000,000.

Maximum Award: We will not make an award for any application above the maximum award of $10,000,000 for a single budget period of 48 months. The Assistant Secretary for Postsecondary Education may change the maximum amount through a notice published in the Federal Register.

Estimated Number of Awards: 0-5.

Note: The Department is not bound by any estimates in this notice.

Project Period: 48 months.

III. Eligibility Information

1. Eligible Applicants: Institutions of higher education, combinations of such institutions, and other public and private nonprofit institutions and agencies.

To qualify as an eligible MSI under the FITW program, an institution of higher education must meet one of two criteria. The first criterion includes: Current eligibility approval as defined by the Department's FY 2015 eligibility process for Title III and/or Title V of the Higher Education Act of 1965, as amended; an open grant under one of the Department's Title III, Parts A and F and/or Title V programs; or a designation as a Historically Black College of University or a Tribally Controlled College. The second criterion includes: Specific enrollment percentages for minority students served; and, if applicable, needy student and educational and general expenditure criteria for determining income eligibility.

More information on MSI eligibility is in the application package under the section entitled Eligibility. The Department will screen the applications to verify MSI eligibility based on these criteria and, if applicable, will use the most recent Integrated Postsecondary Educational Data Systems data. In the event an application does not qualify for MSI eligibility, it will still be reviewed.

2. Cost Sharing or Matching. This competition does not require cost sharing or matching.

IV. Application and Submission Information

1. Address to Request Application Package: You can obtain an application package via the Internet or from the Education Publications Center (ED Pubs). To obtain a copy via the Internet, use the following address: www.ed.gov/fund/grant/apply/grantapp/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this program or competition as follows: CFDA number 84.116X.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. There is a limit for the application narrative of no more than 35 pages using the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The page limit for the application does not apply to Part I, the cover sheet; Part II, the budget section, including the narrative budget justification; Part IV, the assurances and certifications; or the one-page abstract and information page, the resumes (three-page limit per resume), the bibliography, the appendices, or the letters of support.

3. Submission Dates and Times:

Applications Available: May 11, 2015.

Deadline for Transmittal of Applications: June 30, 2015.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 31, 2015.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants for the FITW program must be submitted electronically unless you qualify for an exception to this requirement in accordance with the instructions in this section.

a. Electronic Submission of Applications

Applications for grants under the FITW program, CFDA number 84.116X (Validation grants), must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the FITW program at www.Grants.gov. You must search for the downloadable application package for this program this competition by the CFDA number. Do not include the CFDA number's alpha suffix in your search (e.g., search for 84.116, not 84.116X).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Frank Frankfort, U.S. Department of Education, 1990 K Street NW., Room 6166, Washington, DC 20006.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.116X), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.116X), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The following selection criteria for the Validation competition are from 34 CFR 75.210 and the NFP. The points assigned to each criterion are indicated in parentheses. We will award up to a total of 100 points to an application under the selection criteria.

A. Significance (up to 20 points).

The Secretary considers the significance of the proposed project. In determining the significance of the project, the Secretary considers the following factors:

1. The potential contribution of the proposed project to increased knowledge or understanding of educational problems, issues, or effective strategies.

2. The extent to which the proposed project is likely to yield findings that may be utilized by other appropriate agencies and organizations.

3. The potential replicability of the proposed project or strategies, including, as appropriate, the potential for implementation in a variety of settings.

B. Quality of the Project Design (up to 30 points).

The Secretary considers the quality of the design of the proposed project. In determining the quality of the proposed project design, the Secretary considers the following factors:

1. The extent to which the design of the proposed project includes a thorough, high-quality review of the relevant literature, a high-quality plan for project implementation, and the use of appropriate methodological tools to ensure successful achievement of project objectives.

2. The extent to which the proposed project is designed to build capacity and yield results that will extend beyond the period of Federal financial assistance.

3. The extent to which the design of the proposed project reflects up-to-date knowledge from research and effective practice.

C. Adequacy of Resources (up to 20 points).

The Secretary considers the adequacy of resources for the proposed project. In determining the quality of the adequacy of resources for the proposed project, the Secretary considers the following factors:

1. The adequacy of support, including facilities, equipment, supplies, and other resources, from the applicant organization or the lead applicant organization.

2. The relevance and demonstrated commitment of each partner in the proposed project to the implementation and success of the project.

3. The extent to which the costs are reasonable in relation to the number of persons to be served and to the anticipated results and benefits.

4. The qualifications, including relevant training and experience, of the project director or principal investigator.

D. Quality of Project Evaluation (up to 30 points).

The Secretary considers the quality of the evaluation to be conducted of the proposed project. In determining the quality of the project evaluation to be conducted, the Secretary considers the following factors:

1. The extent to which the goals, objectives, and outcomes to be achieved by the proposed project are clearly specified and measurable.

2. The extent to which the methods of evaluation will, if well-implemented, produce evidence about the project's effectiveness that would meet the What Works Clearinghouse Evidence Standards without reservations.

3. The qualifications, including relevant training and experience, of project consultants or subcontractors.

Note: Successful applications will be those that have an evaluation design that has the potential to meet the What Works Clearinghouse Evidence Standards without reservations. The response to this selection criterion should include a description and number of students who will receive the intervention at each partner institution as well as a description and number of students to whom they will be compared at each partner institution. Finally, applicants should also address whether the person or firm conducting the independent evaluation (as defined in this notice) has experience in the design and management of evaluations designed to meet What Works Clearinghouse Evidence Standards.

We encourage eligible applicants to review the following technical assistance resources on evaluation:

(1) What Works Clearinghouse Procedures and Standards Handbook: http://ies.ed.gov/ncee/wwc/references/idocviewer/doc.aspx?docid=19&tocid=1; and

(2) IES/NCEE Technical Methods papers: http://ies.ed.gov/ncee/tech_methods/.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

Before making awards, we will screen applications submitted in accordance with the requirements in this notice to determine whether the application meets the eligibility requirements. This screening process may occur at various stages of the process. Applicants that are determined to be ineligible at any stage of the review process will not be considered further or receive a grant.

We will use independent peer reviewers with varied backgrounds and professions, such as college and university educators, researchers and evaluators, social entrepreneurs, strategy consultants, and others with education expertise for the peer review process. All reviewers will be thoroughly screened for conflicts of interest to ensure a fair and competitive review process. Peer reviewers will read the assigned applications, prepare a written evaluation, and score the applications using the selection criteria provided in this notice.

In addition, in making a competitive grant award, the Secretary also requires various assurances including those applicable to Federal civil rights laws that prohibit discrimination in programs or activities receiving Federal financial assistance from the Department of Education (34 CFR 100.4, 104.5, 106.4, 108.8, and 110.23).

For FITW Validation grant applications the Department will create review panels comprised of content and evaluation experts. Content reviewers will review all eligible proposals but score only the first three selection criteria: A. Significance; B. Quality of the Project Design; and C. Adequacy of Resources. Evaluation experts will review all eligible proposals but score only the fourth criterion, D. Quality of the Project Evaluation.

3. Special Conditions: Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

To ensure that the Federal investment of these funds has as broad an impact as possible and to encourage innovation in the development and dissemination of learning materials, FITW grantees will be required to license to the public all intellectual property (except for computer software source code, as discussed below) created with the support of grant funds, including both new content created with grant funds and modifications made to pre-existing, grantee-owned content using grant funds. That license must be worldwide, non-exclusive, royalty-free, perpetual, irrevocable, and grant the public permission to access, reproduce, publicly perform, publicly display, adapt, distribute, and otherwise use the intellectual property referenced above (except for computer software source code, discussed below) for any purposes, conditioned only on the requirement that attribution be given to authors as designated. Further, the Department requires that all computer software source code developed or created with FITW funds will be released under an intellectual property license that allows others to freely use and build upon them.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. You must also submit a final evaluation report. If you receive a multi-year award, you must submit an annual performance report that provides the most current performance and financial expenditure information as directed by the Secretary under 34 CFR 75.118. You must also submit an annual evaluation report. The Secretary may also require more frequent performance reports under 34 CFR 75.720(c). For specific requirements on reporting, please go to www.ed.gov/fund/grant/apply/appforms/appforms.html.

4. Performance Measures. Under the Government Performance and Results Act of 1993, the Department will use the following performance measures in assessing the successful performance of FIPSE's FITW grants:

(1) The extent to which funded projects are replicated (i.e., adopted or adapted by others).

(2) The extent to which projects are institutionalized and continued after funding.

(3) The extent to which the metrics used to assess and evaluate project results measure performance under the absolute priority the project is designed to address.

(4) The percentage of projects supported by FITW grants that produce evidence of their effectiveness (that meets What Works Clearinghouse Evidence Standards without reservations) at improving student outcomes and college affordability, especially for low-income students.

(5) The percentage of projects supported by FITW grants that provide high-quality implementation data and performance feedback that allow for periodic assessment of progress toward achieving intended outcomes.

(6) The cost per student served by FITW grants.

(7) The cost per successful student outcome.

If funded, you will be asked to collect and report data from your project on steps taken toward achieving the outcomes evaluated by these performance measures.

Consequently, applicants are advised to include these outcomes in conceptualizing the design, implementation, and evaluation of their proposed projects.

VII. Agency Contact

FOR FURTHER INFORMATION CONTACT: Frank Frankfort, U.S. Department of Education, 1990 K Street NW., Room 6166, Washington, DC 20006-8544. Telephone: (202) 502-7513. FAX: (202) 502-7877 or by email. You may send emails to OPEFITWValidation@ed.gov.

If you use a TDD or a TTY, call the Federal Relay Service, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Delegation of Authority: The Secretary of Education has delegated authority to Jamienne S. Studley, Deputy Under Secretary, to perform the functions and duties of the Assistant Secretary for Postsecondary Education.

Dated: May 5, 2015.
Jamienne S. Studley,
Deputy Under Secretary.

[FR Doc. 2015-11337 Filed 5-8-15; 8:45 am]

BILLING CODE 4000-01-P